DEPARTMENT OF COMMERCE

Bureau of Industry and Security

15 CFR Parts 743, 748, 772, and 774

[Docket No. 100325169-0629-01]

RIN 0694-AE90

Editorial Correction to the Export Administration Regulations

AGENCY: Bureau of Industry and Security, Commerce.

ACTION: Final rule.

SUMMARY: This final rule corrects reference and typographical errors in the Export Administration Regulations (EAR). The corrections are editorial in nature and do not affect license requirements. In addition to the editorial corrections, this rule adds new definitions to the EAR that were inadvertently not incorporated by a previous rule.

DATES: Effective on September 21, 2011.

FOR FURTHER INFORMATION CONTACT: Sharron Cook, Office of Exporter Services, Bureau of Industry and Security, by telephone (202) 482-4890 or e-mail: Sharron.cook@bis.doc.gov.

SUPPLEMENTARY INFORMATION: This final rule updates five parts of the EAR and two categories of the Commerce Control List (CCL). Three parts of the EAR are updated to correct internal references and subsection designations, and the supplement to another part is updated to provide a complete and more accurate description of controls and the related items on the CCL. In addition, this rule adds definitions to another part of the EAR to harmonize it with the Wassenaar Arrangement on Export Controls for Conventional Arms and Dual-Use Goods and Technologies.

Part 743

This document revises a paragraph designation in the final rule that was published by BIS on May 22, 2009 (74 FR 23941, 23947). More specifically, the last paragraph of Section 743.3 was designated inconsistent with the section's alphabetical order. To use the appropriate alphabetical designation, this document redesignates the last paragraph (d) in Section 743.3 as (f). This change ensures that all relevant paragraphs in Section 743.3 are properly and consistently designated.

Part 748

This document revises the designation of a subparagraph in the final rule that was published by BIS on March 25, 1996 (61 FR 12812, 12829). The March 25, 1996 rule redesignated some paragraphs in Supplement No. 5 to part 748, but failed to redesignate the paragraph following (a)(6)(vi)(B)(2), which is designated (iii), as (a)(6)(vi)(C). This rule provides the correct designation, thereby ensuring that all relevant paragraphs in Supplement No. 5 to Part 748 are properly designated.

Part 772

This final rule adds two definitions to part 772 of the EAR to harmonize with definitions found in the list of terms that accompanies the Wassenaar Arrangement list of dual-use items and to ensure consistency within the EAR where these definitions are used. More specifically, the two definitions, “Communications Channel Controller” and “Network Access Controller” are added to Category 4 of the CCL. The addition of the terms to part 772 will ensure consistency.

Supplement No. 1 to Part 774

This rule revises entries on the CCL to provide a complete and more accurate description of controls in certain Export Control Classification Numbers (ECCNs). Specific amendments applying to ECCNs 3A001 and Notes of Category 5 part 2 of the CCL are described below.

Category 3 Electronics

ECCN 3A001.g is amended by adding a Technical Note that was removed on October 14, 2009.

Category 5, Part 2 Information Security

The introductory section of this Category is amended by adding “Technical Note: Parity bits are not included in the key length,” because this Note was inadvertently removed from its previous place within ECCN 5A002. However, to remain consistent with the Wassenaar Arrangement and because this note regarding parity bits applies to all Category 5, part 2 ECCNs, BIS is including the additional language at the end of the Notes that appear before the beginning of 5A002.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been designated a “not significant regulatory action,” under section 3(f) of Executive Order 12866.

2. Notwithstanding any other provision of law, no person is required to respond to, nor shall any person be subject to a penalty for failure to comply with a collection of information, subject to the requirements of Paperwork Reduction Act, unless that collection of information displays a currently valid Office of Management and Budget Control Number. This rule does not affect any paperwork collection. This rule does not contain policies with Federalism implications as that term is defined under E.O. 13132.

3. The Department finds that there is good cause under 5 U.S.C. 553(b)(3)(B) to waive the provisions of the Administrative Procedure Act requiring prior notice and the opportunity for public comment because they are unnecessary. The revisions made by this rule are administrative in nature and do not affect the rights and obligations of the public. Because these revisions are not substantive changes to the EAR, it is unnecessary to provide notice and opportunity for public comment. In addition, the 30-day delay in effectiveness required by 5 U.S.C. 553(d) is not applicable because this rule is not a substantive rule. No other law requires that a notice of proposed rulemaking and opportunity for public comment be given for this rule. The analytical requirements of the Regulatory Flexibility Act (5 U.S.C. 601 et. seq.) are not applicable.

List of Subjects

CFR Part 743

Administrative practice and procedure, Reporting and recordkeeping requirements.

CFR Part 748

Administrative practice and procedure, Exports, Reporting and recordkeeping requirements.

CFR Part 772

Exports.

CFR Part 774

Exports, Reporting and recordkeeping requirements.

Accordingly, parts 743, 748, 772 and 774 of the EAR (15 CFR parts 730-774) are amended as follows:

PART 743—[AMENDED]

3. The authority citation for part 743 continues to read as follows:

Authority: 50 U.S.C. app. 2401 et seq.; 50 U.S.C. 1701 et seq.; E.O. 13222, 66 FR 44025, 3 CFR, 2001 Comp., p. 783; Notice of August 12, 2011, 76 FR 50661 (August 16, 2011).

4. Section 743.3 is amended by redesignating paragraph (d) following paragraph (e) as paragraph (f).

PART 748—[AMENDED]

5. The authority citation for part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 12, 2011, 76 FR 50661 (August 16, 2011).

Supplement No. 5 to Part 748—[Amended]

6. Supplement No. 5 to part 748 is amended by redesignating paragraph (iii) that follows paragraph (a)(6)(vi)(B)(2) as paragraph (a)(6)(vi)(C).

Part 772—[AMENDED]

7. The authority citation for part 772 continues to read as follows:

Authority: 50 U.S.C. app. 2401 et seq.; 50 U.S.C. 1701 et seq.; E.O. 13222, 66 FR 44025, 3 CFR, 2001 Comp., p. 783; Notice of August 12, 2011, 76 FR 50661 (August 16, 2011).

8. Section 772.1 is amended by adding the definitions “Communications Channel Controller” and “Network Access Controller” in alphabetical order to read as follows:

§ 772.1 Definitions of terms as used in the Export Administration Regulations (EAR).

* * * * *

Communications Channel Controller. (Cat 4)—The physical interface which controls the flow of synchronous or asynchronous digital information. It is an assembly that can be integrated into computer or telecommunications equipment to provide communications access.

* * * * *

Network Access Controller. (Cat 4)—A physical interface to a distributed switching network. It uses a common medium which operates throughout at the same “digital transfer rate” using arbitration (e.g., token or carrier sense) for transmission. Independently from any other, it selects data packets or data groups (e.g., IEEE 802) addressed to it. It is an assembly that can be integrated into computer or telecommunications equipment to provide communications access.

* * * * *

Part 774—[AMENDED]

9. The authority citation for part 774 continues to read as follows:

Authority: 50 U.S.C. app. 2401 et seq.; 50 U.S.C. 1701 et seq.; 10 U.S.C. 7420; 10 U.S.C. 7430(e); 22 U.S.C. 287c, 22 U.S.C. 3201 et seq., 22 U.S.C. 6004; 30 U.S.C. 185(s), 185(u); 42 U.S.C. 2139a; 42 U.S.C. 6212; 43 U.S.C. 1354; 15 U.S.C. 1824a; 50 U.S.C. app. 5; 22 U.S.C. 7201 et seq.; 22 U.S.C. 7210; E.O. 13026, 61 FR 58767, 3 CFR, 1996 Comp., p. 228; E.O. 13222, 66 FR 44025, 3 CFR, 2001 Comp., p. 783; Notice of August 12, 2011, 76 FR 50661 (August 16, 2011).

10. In Supplement No. 1 to part 774 (the Commerce Control List), Category 3 Electronics, ECCN 3A001 is amended by adding a technical note after the Note 2 of paragraph g.2.b in the Items paragraph of the List of Items Controlled section to read as follows:

Supplement No. 1 to Part 774—Commerce Control List

* * * * *

3A001 Electronic components and specially designed components therefor, as follows (see List of Items Controlled).

* * * * *

List of Items Controlled

* * * * *

Items:

* * * * *

g. * * *

g.2. * * *

g.2.b. * * *

Technical Note: For the purposes of 3A001.g, a “thyristor module” contains one or more thyristor devices.

* * * * *

11. In Supplement No. 1 to part 774 (the Commerce Control List), Category 5, Telecommunications and “Information Security,” Part II Information Security, is amended by adding a Technical Note to the end of the notes appearing at the beginning of the Category, to read as follows:

Category 5—Telecommunications and “Information Security”

Part II. “Information Security”

* * * * *

Technical Note: Parity bits are not included in the key length.

* * * * *

Dated: September 15, 2011.
Kevin J. Wolf,
Assistant Secretary for Export Administration.

[FR Doc. 2011-24229 Filed 9-20-11; 8:45 am]

BILLING CODE 3510-33-P